DEPARTMENT OF COMMERCE

National Telecommunications and Information Administration

Agency Information Collection Activities; Submission for OMB Review; Comment Request

The Department of Commerce will submit to the Office of Management and Budget (OMB) for clearance the following proposal for collection of information under the provisions of the Paperwork Reduction Act (44 U.S.C. Chapter 35).

Agency: National Telecommunications and Information Administration.

Title: State and Local Implementation Grant Program 2.0 Reporting Requirements.

OMB Control Number: None.

Form Number(s): None.

Type of Request: Regular submission.

Number of Respondents: 56.

Average Hours per Response: Quarterly reports 12.5 hours.

Burden Hours: 2,800.

Needs and Uses: The Middle Class Tax Relief and Job Creation Act of 2012 (Act, Pub. L. 112-96, 126 Stat. 156 (2012)) was enacted in February, 2012. The Act meets a long-standing national priority, as well as a critical national infrastructure need, to create a single, interoperable, nationwide public safety broadband network (NPSBN) that allows law enforcement officers, fire fighters, emergency medical service professionals, and other public safety officials to effectively communicate with each other across agencies and jurisdictions. Public safety workers have long been hindered in their ability to respond in a crisis situation because of incompatible communications networks and often outdated communications equipment.

The Act established the First Responder Network Authority (FirstNet) as an independent authority within NTIA and authorizes it to take all actions necessary to ensure the design, construction, and operation of the NPSBN, based on a single, national network architecture.

The Act also charged NTIA with establishing a grant program, the State and Local Implementation Grant Program (SLIGP), to assist State, regional, tribal, and local jurisdictions with identifying, planning, and implementing the most efficient and effective means to use and integrate the infrastructure, equipment, and other architecture associated with the NPSBN to satisfy the wireless broadband and data services needs of their jurisdictions. NTIA originally awarded $116.5 million in grant funds to 54 state and territorial recipients between July and September 2013. The original SLIGP grant awards end on February 28, 2018.

With an available balance of up to $43.4 million from the original SLIGP fund of $116.5 million, NTIA will continue to provide funding through SLIGP 2.0 grants to assist State, regional, tribal, and local jurisdictions to engage effectively with FirstNet and provide it with information needed to continue with planning the NPSBN and the deployment of the Radio Access Network (RAN) in an effective and timely manner, as required by the Act. NTIA will use the collection of information to monitor and evaluate how SLIGP 2.0 grant recipients are achieving the core purposes of the program established by the Act.

NTIA received one comment during the 60-Day PRA Notice comment period. The Bureau of Communications and Information Services of the Pennsylvania State Police submitted comments to NTIA. Two of its comments are in agreement with NTIA's proposed data collection and the estimated burden of hours and costs to submit required reporting for SLIGP 2.0 grantees.

It also commented on comparing quarterly progress to a grantee's baseline, allowing a single quarterly narrative including graphs and charts and submitting reports electronically including an electronic signature. Under SLIGP 2.0, NTIA will not require that grantees provide quarterly to baseline progress comparisons and has reduced narrative reporting as compared to SLIGP 1.0 reporting requirements. NTIA has determined that grantees may include graphs and charts to complement required quarterly reporting, and electronic signatures of authorized officials are acceptable for certification purposes. While using an on-line portal may be advantageous, the limited amount and frequency of data to be collected over the duration of the SLIGP 2.0 grant period of performance and the associated costs of establishing an electronic on-line portal mechanism makes such an investment prohibitive.

The publication of this notice allows NTIA to begin the process to request OMB approval to collect information under the provisions of the Paperwork Reduction Act (44 U.S.C. Chapter 35).

Affected Public: State, regional, local and tribal government organizations.

Frequency: Quarterly.

Respondent's Obligation: This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
PRA Department Lead, Office of the Chief Information Officer.

[FR Doc. 2017-25389 Filed 11-22-17; 8:45 am]

BILLING CODE 3510-60-P